DEPARTMENT OF TRANSPORTATION

Federal Aviation Administration

14 CFR Part 39

[Docket No. FAA-2022-0289; Project Identifier MCAI-2022-00254-Q; Amendment 39-21992; AD 2022-07-05]

RIN 2120-AA64

Airworthiness Directives; MARS A.S. Parachutes

AGENCY: Federal Aviation Administration (FAA), DOT.

ACTION: Final rule; request for comments.

SUMMARY: The FAA is superseding Airworthiness Directive (AD) 2022-05-09, which applied to certain MARS A.S. emergency parachutes. AD 2022-05-09 required removing emergency parachutes with certain manufacture dates or serial numbers from service. Since the FAA issued AD 2022-05-09, the European Union Aviation Safety Agency (EASA) superseded its mandatory continuing airworthiness information (MCAI) to correct an unsafe condition on this aviation product. The MCAI identifies the unsafe condition as the length of the ripcord between the pins being too long, which could cause a malfunction of the emergency parachute. This AD retains the actions required by AD 2022-05-09 and expands the applicability.

DATES: This AD is effective April 5, 2022.

The FAA must receive any comments on this AD by May 5, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact MarS a.s, Okružní II 239, Jevíčko, 569 43, Czech Republic; phone: +420 461 353 841; email: mars@marsjev.cz; website: https://www.marsjev.com. You may view this service information at the FAA, Airworthiness Products Section, Operational Safety Branch, 901 Locust, Kansas City, MO 64106. For information on the availability of this material at the FAA, call (817) 222-5110.

Examining the AD Docket

You may examine the AD docket at https://www.regulations.gov by searching for and locating Docket No. FAA-2022-0289; or in person at Docket Operations between 9 a.m. and 5 p.m., Monday through Friday, except Federal holidays. The AD docket contains this final rule, the MCAI, any comments received, and other information. The street address for Docket Operations is listed above.

FOR FURTHER INFORMATION CONTACT: Darren Gassetto, COS Program Manager, Boston ACO Branch, Compliance & Airworthiness Division, FAA, 1200 District Avenue, Burlington, MA 01803; phone: (516) 228-7323; email: 9-AVS-AIR-BACO-COS@faa.gov.

SUPPLEMENTARY INFORMATION:

Background

The FAA issued AD 2022-05-09, Amendment 39-21960 (87 FR 10712, February 25, 2022) (AD 2022-05-09), for certain MARS A.S. ATL-88/90-1B (commercially known as ATL-15 SL) emergency parachutes with an extension of static line made of Microline cord. AD 2022-05-09 was prompted by MCAI originated by EASA, which is the Technical Agent for the Member States of the European Union. EASA issued EASA Emergency AD 2022-0018-E, dated January 28, 2022, to address malfunction of the emergency parachute. AD 2022-05-09 required removing emergency parachutes with certain manufacture dates or serial numbers from service. The FAA issued AD 2022-05-09 to address failure of an emergency parachute to deploy when needed.

Actions Since AD 2022-05-09 Was Issued

Since the FAA issued AD 2022-05-09, EASA superseded EASA Emergency AD 2022-0018-E, dated January 28, 2022, and issued EASA Emergency AD 2022-0029-E, dated February 23, 2022 (referred to after this as “the MCAI”) for MARS A.S. ATL-88/90-1B (commercially known as ATL-15 SL) emergency parachutes, all serial numbers (s/n) manufactured from 2016. The MCAI states:

During the yearly inspection of one of the affected emergency parachutes, it has been found that the length of the ripcord between the pins was too large and, in some cases, only one of 2 loops of the parachute could be opened when the manual ripcord was pulled. Subsequent inspection revealed that the dimensions of the static line extension were out of production tolerances. It is expected that the manufacturer will develop a modification to restore the airworthiness of affected emergency parachutes.

This condition, if not corrected, could cause a malfunction of the emergency parachute.

To address this unsafe condition EASA issued Emergency AD 2022-0018-E to require removal from service of the affected emergency parachutes.

Since that [EASA] AD was issued, following some additional tests, it was determined that additional emergency parachutes s/n may also be affected by this unsafe condition.

For the reasons described above, this [EASA] AD retains the requirements of EASA Emergency AD 2022-0018-E, which is superseded, and expands its Applicability.

This [EASA] AD is still considered to be an interim measure and further [EASA] AD action may follow.

You may examine the MCAI in the AD docket at https://www.regulations.gov by searching for and locating Docket No. FAA-2022-0289.

The results of the additional tests referenced in the MCAI showed that even emergency parachutes with a metallic static line extension (not made of Microline cord) failed to deploy.

Related Service Information

The FAA reviewed MarS a.s. letter titled “Information for dealers and users of the ATL-15 SL emergency parachute (ATL-88/90-1B),” dated January 27, 2022. This letter provides information for identifying and suspending the use of affected emergency parachutes, which have an extension of static line made of Microline cord that was manufactured outside of production tolerances. EASA has since determined that the unsafe condition exists regardless of the design of the static line extension.

AD Requirements

This AD applies to emergency parachutes with certain manufacture dates and requires removing those emergency parachutes from service. This AD retains the actions required by AD 2022-05-09 and expands the applicability.

Differences Between This AD and the MCAI

The MCAI requires storing emergency parachutes in the unrigged condition in storage containers and visibly mark those storage containers with the words “Parachute not airworthy. Do not use until further notice,” while this AD requires removing the emergency parachutes from service.

This AD also requires removing from service any emergency parachute where the manufacture date is unknown, and the MCAI does not include that requirement.

Interim Action

The FAA considers this AD to be an interim action. If final action is later identified, the FAA might consider further rulemaking then.

FAA's Justification and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies waiving notice and comment prior to adoption of this rule because failure of an emergency parachute to deploy when needed will lead to the parachutist freefalling to the surface without being slowed, resulting in serious injury or death. Thus, the affected parachutes must be removed from service as of the effective date of this AD. Accordingly, notice and opportunity for prior public comment are impracticable and contrary to the public interest pursuant to 5 U.S.C. 553(b)(3)(B).

The FAA has also found that the risk to the flying public justifies foregoing notice and comment prior to adoption of this rule because there are no affected emergency parachutes used in the United States and thus, it is unlikely that the FAA will receive any adverse comments or useful information about this AD from U.S. operators. Accordingly, notice and opportunity for prior public comment are unnecessary pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2022-0289 and Project Identifier MCAI-2022-00254-Q” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent Darren Gassetto, COS Program Manager, Boston ACO Branch, Compliance & Airworthiness Division, FAA, 1200 District Avenue, Burlington, MA 01803. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD does not affect any emergency parachutes used in the United States. According to the manufacturer, none of the affected emergency parachutes were sold through its distributors in the United States. In the event an affected emergency parachute is brought into the United States, the following is an estimate of the costs to comply with this AD:

Estimated Costs
Action | Labor cost | Parts cost | Cost per parachute
Remove emergency parachute from service | 0.5 work-hour × $85.00 per hour = $42.50 | Not Applicable | $42.50

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2022-05-09, Amendment 39-21960 (87 FR 10712, February 25, 2022); and

b. Adding the following new airworthiness directive:

2022-07-05 MARS A.S.: Amendment 39-21992; Docket No. FAA-2022-0289; Project Identifier MCAI-2022-00254-Q.

(a) Effective Date

This airworthiness directive (AD) is effective April 5, 2022.

(b) Affected ADs

This AD replaces AD 2022-05-09, Amendment 39-21960 (87 FR 10712, February 25, 2022).

(c) Applicability

This AD applies to MARS A.S. ATL-88/90-1B (commercially known as ATL-15 SL) emergency parachutes that meet either of the criterion in paragraph (c)(1) or (2) of this AD:

(1) The parachute has a date of manufacture of January 1, 2016, or later; or

(2) The date of manufacture of the parachute is unknown.

(d) Subject

Joint Aircraft System Component (JASC) Code 2563, Parachute.

(e) Unsafe Condition

This AD results from mandatory continuing airworthiness information (MCAI) originated by an aviation authority of another country to identify and correct an unsafe condition on an aviation product. The MCAI identifies the unsafe condition as the length of the ripcord between the pins being too long, which could cause a malfunction of the emergency parachute. The unsafe condition, if not addressed, could result in failure of the emergency parachute to deploy when needed.

(f) Compliance

Comply with this AD within the compliance times specified, unless already done.

(g) Remove From Service

As of the effective date of this AD, remove each emergency parachute from service.

(h) Special Flight Permit

Special flight permits are prohibited.

(i) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD and email to: 9-AVS-AIR-BACO-COS@faa.gov.

(2) Before using any approved AMOC, notify your appropriate principal inspector, or lacking a principal inspector, the manager of the local flight standards district office/certificate holding district office.

(j) Related Information

(1) For more information about this AD, contact Darren Gassetto, COS Program Manager, Boston ACO Branch, Compliance & Airworthiness Division, FAA, 1200 District Avenue, Burlington, MA 01803; phone: (516) 228-7323; email: 9-AVS-AIR-BACO-COS@faa.gov.

(2) Refer to European Union Aviation Safety Agency (EASA) Emergency AD 2022-0029-E, dated February 23, 2022, for more information. You may examine the EASA AD in the AD docket at https://www.regulations.gov by searching for and locating Docket No. FAA-2022-0289.

(k) Material Incorporated by Reference

None.

Issued on March 16, 2022.
Derek Morgan,
Acting Director, Compliance & Airworthiness Division, Aircraft Certification Service.

[FR Doc. 2022-05959 Filed 3-17-22; 11:15 am]

BILLING CODE 4910-13-P